DEPARTMENT OF LABOR

Employment and Training Administration

[TA-W-39,430]

Jacmel Jewelry; Notice of Termination of Investigation

Pursuant to section 221 of the Trade Act of 1974, an investigation was initiated on June 13, 2001, in response to a petition filed on behalf of workers at Jacmel Jewelry, New York, New York.

The petition was signed by one individual who was later found not to be an official in either the union or company. Therefore the petition is invalid and no further investigation is warranted. Therefore, the petition investigation is terminated.

Signed in Washington, DC this 29th day of June, 2001.
Linda G. Poole,
Certifying Officer, Division of Trade Adjustment Assistance.

[FR Doc. 01-17357 Filed 7-10-01; 8:45 am]

BILLING CODE 4510-30-M